DEPARTMENT OF COMMERCE

International Trade Administration

[A-580-909, A-821-826, A-823-819]

Seamless Carbon and Alloy Steel Standard, Line, and Pressure Pipe From the Republic of Korea, the Russian Federation, and Ukraine: Postponement of Preliminary Determinations in the Less-Than-Fair-Value Investigations

AGENCY: Enforcement and Compliance, International Trade Administration, Department of Commerce.

DATES: Applicable November 19, 2020.

FOR FURTHER INFORMATION CONTACT: Joshua DeMoss at (202) 482-3362 (the Republic of Korea (Korea)); Kathryn Turlo at (202) 482-3870 (the Russian Federation (Russia)); Zachary Shaykin at (202) 482-2638 (Ukraine); AD/CVD Operations, Enforcement and Compliance, International Trade Administration, U.S. Department of Commerce, 1401 Constitution Avenue NW, Washington, DC 20230.

SUPPLEMENTARY INFORMATION:

Background

On July 28, 2020, the Department of Commerce (Commerce) initiated less-than-fair-value (LTFV) investigations of imports of Seamless Carbon and Alloy Steel Standard, Line, and Pressure Pipe from the Czech Republic, Korea, Russia, and Ukraine.¹ Currently, the preliminary determinations are due no later than December 15, 2020.

¹ See Seamless Carbon and Alloy Steel Standard, Line, and Pressure Pipe from the Czech Republic, the Republic of Korea, the Russian Federation, and Ukraine: Initiation of Less-Than-Fair-Value Investigations, 85 FR 47176 (August 4, 2020).

Postponement of Preliminary Determinations

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is Vallourec Star, LP.

On October 15, 2020, the petitioner submitted a timely request that Commerce postpone the preliminary determinations in the Korea, Russia, and Ukraine LTFV investigations.³ The petitioner stated that it requests postponement because Commerce will not otherwise have complete questionnaire responses and sufficient information to issue preliminary determinations.⁴

³ See Petitioner's Letter, “Seamless Carbon and Alloy Steel Standard, Line, and Pressure Pipe from the Republic of Korea, Russia, and Ukraine: Request to Extend Preliminary Determinations,” dated October 15, 2020.

⁴ Id.

For the reasons stated above and because there are no compelling reasons to deny the request, Commerce, in accordance with section 733(c)(1)(A) of the Act, is postponing the deadline for the preliminary determinations in the Korea, Russia, and Ukraine LTFV investigations by 50 days (i.e., 190 days after the date on which these investigations were initiated). As a result, Commerce will issue its preliminary determinations in the Korea, Russia, and Ukraine LTFV investigations no later than February 3, 2021. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: November 13, 2020.
Jeffrey I. Kessler,
Assistant Secretary for Enforcement and Compliance.

[FR Doc. 2020-25575 Filed 11-18-20; 8:45 am]

BILLING CODE 3510-DS-P